DEPARTMENT OF DEFENSE

Department of the Navy

Notice of Intent To Prepare an Environmental Impact Statement/Overseas Environmental Impact Statement for the Virginia Capes Range Complex and Notice of Public Scoping Meetings

AGENCY: Department of the Navy, DoD.

ACTION: Notice.

SUMMARY: Pursuant to Section (102)(2)(C) of the National Environmental Policy Act (NEPA) of 1969, as implemented by the Council on Environmental Quality Regulations (40 CFR Parts 1500-1508), and Executive Order 12114, the Department of the Navy (DON) announces its intent to prepare an Environmental Impact Statement (EIS)/Overseas EIS (OEIS) to evaluate the potential environmental consequences associated with naval training in the Virginia Capes (VACAPES) Range Complex. The DON proposes to support and conduct current and emerging training operations and research, development, testing, and evaluation (RDT&E) operations in the VACAPES Range Complex by: (1) Maintaining baseline operations at current levels; (2) increasing training operations from current levels as necessary to support the Fleet Readiness Training Plan; (3) accommodating mission requirements associated with force structure change; and (4) implementing enhanced range complex capabilities. The EIS/OEIS study area is the VACAPES Range Complex which consists of targets and instrumented areas, airspace, surface and subsurface operations areas (OPAREAs), and land range facilities. Together the VACAPES Range Complex encompasses: 15,143 acres of land area (including 13,600 acres of land area for ranges); 5,158 nm² of special use airspace (SUA) associated with land ranges; 27,661 nm² of offshore surface and subsurface OPAREA; 9,589 nm² of shallow ocean area less than 100 fathoms (600 feet); 18,072 nm² of deep ocean areas greater than 100 fathoms; 330 nm² of over water danger areas; and 28,672 nm² of SUA warning areas. The scope of actions to be analyzed in this EIS/OEIS includes current and proposed future Navy training and RDT&E operations within Navy-controlled operating areas, airspace, and ranges. It also includes proposed Navy-funded range capabilities enhancements, including infrastructure improvements, which support range complex training and RDT&E operations. Training activities that involve the use of active sonar are conducted in the VACAPES Range Complex; however, those potential effects are being analyzed in detail in a separate document, the Atlantic Fleet Active Sonar Training EIS/OEIS. This separate sonar EIS/OEIS addresses active sonar use as a whole by the Atlantic Fleet in the eastern Atlantic Ocean (including waters that are part of the VACAPES Range Complex), and in the Gulf of Mexico. The results of this sonar EIS/OEIS will be incorporated into the VACAPES Range Complex EIS/OEIS to account for active sonar effects that could occur within the geographic area of the VACAPES Range Complex. The DON will request the National Marine Fisheries Service to be a cooperating agency in the preparation of this EIS/OEIS.

Dates and Addresses: Public scoping meetings will be held at the following four sites to receive oral and written comments on environmental concerns that should be addressed in the EIS/OEIS: Salisbury, MD; Chincoteague Island, VA; Virginia Beach, VA; and Nags Head, NC. Public scoping open houses are scheduled below:

1. January 8, 2007, from 5 p.m. to 8 p.m. at James M. Bennett High School, 300 East College Avenue, Salisbury, MD 21804;

2. January 9, 2007 from 5 p.m. to 8 p.m. at the Chincoteague Community Center, 6155 Community Drive, Chincoteague Island, VA 23336;

3. January 10, 2007, from 5 p.m. to 8 p.m. at Lynnhaven Middle School, 1250 Bayne Drive, Virginia Beach, VA 23454; and

4. January 11, 2007 from 5 p.m. to 8 p.m. at the Comfort Inn Oceanfront South, 8031 Old Oregon Inlet Road, Nags Head, NC 27959.

FOR FURTHER INFORMATION CONTACT: Ms. Erin Swiader, Naval Facilities Engineering Command Atlantic, 6506 Hampton Boulevard, Norfolk, VA 23508-1278; telephone 757-322-4960; facsimile 757-322-4894.

SUPPLEMENTARY INFORMATION: Recent world events have placed the U.S. military on heightened alert in the defense of the U.S., and in defense of allied nations. At this time, the U.S. military, and specifically the U.S. Navy, is actively engaged in anti-terrorism efforts around the globe. The Navy's mission is to maintain, train, and equip combat-ready naval forces capable of winning wars, deterring aggression, and maintaining freedom of the seas. For that reason, 10 U.S.C. § 5062 directs the Chief of Naval Operations to train all naval forces for combat. Therefore, naval forces must have access to ranges, OPAREAs and airspace where they can develop and maintain skills for wartime missions and conduct RDT&E of naval weapons systems. As such, Navy ranges, OPAREAs, and airspace must be maintained and/or enhanced to accommodate necessary training and testing activities in support of national security objectives.

The purpose of the proposed action is to: Achieve and maintain Fleet readiness using the VACAPES Range Complex to support and conduct current, emerging, and future training operations, and RDT&E operations; expand warfare missions; and upgrade/modernize existing range capabilities to enhance and sustain Navy and Marine Corps training and testing.

The need for the proposed action is to provide combat capable forces ready to deploy worldwide in accordance with 10 U.S.C. § 5062. Specifically, maintain current levels of military readiness by training in the VACAPES Range Complex; accommodate future increases in operational training tempo in the VACAPES Range Complex and support the rapid deployment of naval units or strike groups; achieve and sustain readiness in ships and squadrons so that the DON can quickly surge significant combat power in the event of a national crisis or contingency operation and consistent with FRTP; support the testing and training needed for new platforms and weapons systems; and maintain the long-term viability of the VACAPES Range Complex while protecting human health and the environment, and enhancing the quality and communication capability and safety of the VACAPES Range Complex.

Three alternatives will be evaluated in the EIS/OEIS including:

(1) The No Action Alternative comprised of baseline operations and support of existing range capabilities;

(2) Alternative 1 comprised of the No Action Alternative plus additional operations and/or expanded warfare missions on upgraded, modernized, or existing ranges; and

(3) Alternative 1 plus a construction and operation of an instrumented minefield training area.

The EIS/OEIS will evaluate the environmental effects associated with: Airspace; noise; range safety; natural land resources; water resources; air quality; biological resources, including threatened and endangered species; land use; socioeconomic resources; infrastructure; and cultural resources. The analysis will include an evaluation of direct and indirect impacts, and will account for cumulative impacts from other DON activities in the VACAPES Range Complex. No decision will be made to implement any alternative until the EIS/OEIS process is completed and a Record of Decision is signed by the Assistant Secretary of the Navy (Installations and Environment).

The DON is initiating the scoping process to identify community concerns and local issues to be addressed in the EIS/OEIS. Federal agencies, state agencies, local agencies, and interested persons are encouraged to provide oral and/or written comments to the DON to identify specific issues or topics of environmental concern that should be addressed in the EIS/OEIS. Written comments must be postmarked by January 23, 2007, and should be mailed to: Naval Facilities Engineering Command, Atlantic, 6506 Hampton Boulevard, Norfolk, VA 23508-1278, Attention: Code EV21JS (Ms. Erin Swiader), telephone 757-322-4960, facsimile 757-322-4894.

Dated: December 4, 2006.
M.A. Harvison,
Lieutenant Commander, Judge Advocate General's Corps, U.S. Navy, Federal Register Liaison Officer.

[FR Doc. E6-20846 Filed 12-7-06; 8:45 am]

BILLING CODE 3810-FF-P